DEPARTMENT OF COMMERCE

National Oceanic and Atmospheric Administration

[I.D. 110603A]

Magnuson-Stevens Act Provisions; General Provisions for Domestic Fisheries; Application for Exempted Fishing Permits (EFPs)

AGENCY: National Marine Fisheries Service (NMFS), National Oceanic and Atmospheric Administration (NOAA), Department of Commerce.

ACTION: Notification of a proposal for EFPs to conduct experimental fishing; request for comments.

SUMMARY: The Assistant Regional Administrator for Sustainable Fisheries, Northeast Region, NMFS (Assistant Regional Administrator) has made a preliminary determination that the subject EFP application contains all the required information and warrants further consideration. The Assistant Regional Administrator has also made a preliminary determination that the activities authorized under the EFP would be consistent with the goals and objectives of the Summer Flounder, Scup, and Black Sea Bass Fishery Management Plan (FMP). However, further review and consultation may be necessary before a final determination is made to issue the EFP. Therefore, NMFS announces that the Assistant Regional Administrator proposes to recommend that an EFP be issued that would allow two vessels to conduct fishing operations that are otherwise restricted by the regulations governing the fisheries of the Northeastern United States. The EFP would allow for exemptions from the FMP as follows: Minimum mesh size in the southern Gear Restricted Area (GRA) for fishing for Loligo squid with a 1 7/8-inch (4.8-cm) diamond mesh codend net; and scup landing limits for Winter I period.

Regulations under the Magnuson-Stevens Fishery Conservation and Management Act require publication of this notification to provide interested parties the opportunity to comment on applications for proposed EFPs.

DATES: Comments on this document must be received on or before December 1, 2003.

ADDRESSES: Written comments should be sent to Patricia A. Kurkul, Regional Administrator, NMFS, Northeast Regional Office, 1 Blackburn Drive, Gloucester, MA 01930. Mark the outside of the envelope “Comments on Loligo Gear Modification Study EFP Proposal.” Comments may also be sent via facsimile (fax) to (978) 281-9135.

FOR FURTHER INFORMATION CONTACT: Brian Hooker, Fishery Management Specialist, phone 978-281-9220.

SUPPLEMENTARY INFORMATION: The NMFS Northeast Fisheries Science Center submitted a complete application for an EFP on October 23, 2003. The experimental fishing application requests authorization to allow the quantitative assessment of the effectiveness of a 5 3/4-inch (14.6-cm) square mesh cylinder, installed as an extension of a Loligo squid net, in reducing scup bycatch and in retaining commercial quantities of Loligo squid. The study would be conducted during the month of January 2004. Sampling would be conducted in the northern portion of the Southern GRA, approximately between 39° 20′ N lat. and 38° 00' N lat., at locations where scup and Loligo co-occur. The depth range within the GRA sampling area is approximately 40 to 100 fathoms (73 to 183 m). Stations would be located across a range of depths to test the efficiency of the gear across a range of scup-Loligo densities. Samples would be within close proximity of one another to minimize steam time between stations. Estimated catch for the study period are as follows: Loligo squid, 96,000 lb (43,545 kg); scup, 13,000 lb (6,078 kg); butterfish, 9,600 lb (4,354 kg); Illex squid, 2,800 lb (1,270 kg); summer flounder, 2,600 lb (1,179 kg); monkfish, 1,900 lb (862 kg); smooth dogfish, 1,000 lb (454 kg); spiny dogfish, 700 lb (318 kg); white hake, 600 lb (272 kg); john dory, 200 lb (91 kg); black sea bass, 100 lb (45 kg); silver hake, 100 lb (45 kg); and tilefish, 10 lb (5 kg). Squid and fish caught during the study would be sold by the vessel owners, in accordance with the requirements of the permits issued to them (with the exception of the requested exemption to the scup landing limit). The sale of fish is necessary to offset the costs of chartering the vessels for the study. The participating vessels would be required to comply with applicable state landing laws and report all landings on the Federal Fishing Vessel Trip Report.

Authority: 16 U.S.C. 1801 et seq.

Dated: November 7, 2003.
Bruce C. Morehead,
Acting Director, Office of Sustainable Fisheries, National Marine Fisheries Service.

[FR Doc. 03-28547 Filed 11-13-03; 8:45 am]

BILLING CODE 3510-22-S